DEPARTMENT OF HEALTH AND HUMAN SERVICES

National Institutes of Health

National Cancer Institute Amended Notice of Meeting

Notice is hereby given of a change in the meeting of the National Cancer Institute Special Emphasis Panel, June 09, 2015, 4:30 p.m. to June 10, 2015, 06:00 p.m., Doubletree Hotel Bethesda, (Formally Holiday Inn Select), 8120 Wisconsin Avenue, Bethesda, MD 20814 which was published in the Federal Register on April 22, 2015, 80FR22540.

The meeting notice is amended to change the title from Exploratory/Development Research Grant Program Omnibus SEP-6 to NCI Omnibus R03 & R21 SEP-6. The meeting is closed to the public.

Dated: May 12, 2015.
Melanie J. Gray,
Program Analyst, Office of Federal Advisory Committee Policy.

[FR Doc. 2015-11823 Filed 5-15-15; 8:45 am]

BILLING CODE 4140-01-P